OFFICE OF PERSONNEL MANAGEMENT

Submission for Review: New Information Collection, Freedom of Information Act (FOIA)/Privacy Act (PA) Record Request and Public Access Link (PAL) Registration, OMB Control No. 3206-XXXX

AGENCY: Office of Personnel Management.

ACTION: 60-Day notice and request for comments.

SUMMARY: The Office of Personnel Management (OPM) offers the general public and other Federal agencies the opportunity to comment on a new information collection request (ICR) 3206-XXXX, Freedom of Information Act (FOIA)/Privacy Act (PA) Record Request and Public Access Link (PAL) Registration.

DATES: Comments are encouraged and will be accepted until August 8, 2022. This process is conducted in accordance with 5 CFR 1320.1.

ADDRESSES: Interested persons are invited to submit written comments on the proposed information collection to the Federal Rulemaking Portal: http://www.regulations.gov. All submissions received must include the agency name and docket number for this Federal Register document. The general policy for comments and other submissions from members of the public is to make these submissions available for public viewing on the internet at http://www.regulations.gov as they are received without change, including any personal identifiers or contact information.

FOR FURTHER INFORMATION CONTACT: A copy of this information collection request, with applicable supporting documentation, may be obtained by contacting the Office of Privacy and Information Management, Office of Personnel Management, 1900 E Street NW, Washington, DC 20415, Attention: Camille C. Aponte-Rossini, or via electronic mail to Camille.Aponte-Rossini@opm.gov.

SUPPLEMENTARY INFORMATION: As required by the Paperwork Reduction Act of 1995, (Pub. L. 104-13, 44 U.S.C. chapter 35) as amended by the Clinger-Cohen Act (Pub. L. 104-106), OPM is soliciting comments for this collection (Freedom of Information Act/Privacy Act Record Request and Public Access Link Registration). The Office of Privacy and Information Management (OPIM) is responsible for OPM's Freedom of Information Act (FOIA) and Privacy programs, among other functions. FOIA and Privacy Act (PA) record requests to OPM may be submitted by mail, electronic mail, and via the Public Access Link (PAL). PAL is a public facing web page that allows the public to register for an account and submit FOIA and PA requests online. The PAL registration provides for the creation of individual user accounts and collects the name and contact information of registrants. The Freedom of Information Act (FOIA)/Privacy Act (PA) Record Request paper form and the electronic PAL registration request the minimum critical elements necessary to submit a FOIA or PA record request to OPM, as well as optional elements to authorize release of information to a third party. We invite comments on this new information collection that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: Freedom of Information Act (FOIA)/Privacy Act (PA) Record Request Form.

OMB Number: 3206-XXXX.

Frequency: Annually.

Affected Public: Individuals.

Number of Respondents: 690.

Estimated Time per Respondent:

• Freedom of Information Act (FOIA)/Privacy Act (PA) Record Request: 3 Minutes.

• Public Access Link (PAL) registration: 2 Minutes.

Total Burden Hours: 58.

• Freedom of Information Act (FOIA)/Privacy Act (PA) Record Request: 35.

• Public Access Link (PAL) registration: 23.

U.S. Office of Personnel Management.
Kellie Cosgrove Riley,
Director, Office of Privacy and Information Management.

[FR Doc. 2022-12284 Filed 6-7-22; 8:45 am]

BILLING CODE 6325-67-P